DEPARTMENT OF AGRICULTURE

Forest Service

Notice of Resource Advisory Committee, Custer, SD, USDA Forest Service; Notice of Meeting

SUMMARY: Pursuant to authorities in the Federal Advisory Committee Act (Public Law 92-463) and the secure Rural Schools and Community Self determination Act of 2000 (Public Law 106-393), the Black Hills National Forest's Custer County Resource Advisory Committee will meet on Thursday, April 5, 2007 in Custer, South Dakota for a meeting. The meeting is open to the public.

SUPPLEMENTARY INFORMATION: The meeting on April 5, 2007 will begin at 6 p.m. at the Black Hills National Forest Supervisor's office at 25041 North Highway 16, Custer, South Dakota. Agenda topics will be Status of Legislation and 2007 projects.

FOR FURTHER INFORMATION CONTACT: Mike Lloyd, Hell Canyon District Ranger and Designated Federal Office, at 605-673-4853.

Catherine M. Rosane,
Support Services Specialist.

[FR Doc. 07-1586 Filed 3-30-07; 8:45 am]

BILLING CODE 3410-11-M